DEPARTMENT OF HEALTH AND HUMAN SERVICES

Administration for Children and Families

Proposed Information Collection Activity; Comment Request

Proposed Projects

Title: Freedom of Information Act (FOIA) Online Request Form

OMB No.:

Description: The proposal is for an online form for filing a request for ACF documents under the Freedom of Information Act (FOIA). The form prompts requesters to provide all the information necessary to ensure the most efficient processing of the request: name, address, telephone number, email address, description of the documents sought, date or time frame for the documents sought, limit on fees requester is willing to pay, whether expedited processing or a fee waiver is sought and the justification for the waiver or expedited processing. The online form is voluntary; it is provided purely for the convenience of the requester and is not required to file a FOIA request.

Respondents: Individuals, private organizations, businesses, state or local governments seeking access to ACF records under the FOIA.

Annual Burden Estimates
Instrument | Number of respondents | Number of responses per respondent | Average burden hours per response | Total burden hours
FOIA Online Request Form | 200 | 1.15 | .25 | 58
Estimated Total Annual Burden Hours: |  |  |  | 58

In compliance with the requirements of Section 506(c)(2)(A) of the Paperwork Reduction Act of 1995, the Administration for Children and Families is soliciting public comment on the specific aspects of the information collection described above. Copies of the proposed collection of information can be obtained and comments may be forwarded by writing to the Administration for Children and Families, Office of Planning, Research and Evaluation, 370 L'Enfant Promenade SW., Washington, DC 20447, Attn: ACF Reports Clearance Officer. Email address: infocollection@acf.hhs.gov. All requests should be identified by the title of the information collection.

The Department specifically requests comments on: (a) Whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Robert Sargis,
Reports Clearance Officer.

[FR Doc. 2014-13043 Filed 6-4-14; 8:45 am]

BILLING CODE 4184-01-P